NUCLEAR REGULATORY COMMISSION

[NRC-2017-0054]

Request for a License To Export Radioactive Waste

AGENCY: Nuclear Regulatory Commission.

ACTION: Update of export license application and extension of comment period; correction.

SUMMARY: The U.S. Nuclear Regulatory Commission (NRC) is correcting a notice that was published in the Federal Register on February 16, 2017, regarding a request for a license to export radioactive waste. This action is necessary in order to provide the correct Agencywide Document Access and Management System accession number for the export license application.

DATES: The correction is effective March 6, 2017.

ADDRESSES: Please refer to Docket ID NRC-2017-0054 when contacting the NRC about the availability of information regarding this document. You may obtain publicly-available information related to this document using any of the following methods:

• Federal Rulemaking Web site: Go to http://www.regulations.gov and search for Docket ID NRC-2017-0054. Address questions about NRC dockets to Carol Gallagher; telephone: 301-415-3463; email: Carol.Gallagher@nrc.gov. For technical questions, contact the individual(s) listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.”

For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Andrea Jones, Office of International Programs, U.S. Nuclear Regulatory Commission, Washington DC 20555-0001; telephone: 301-287-9072, email: Andrea.Jones2@nrc.gov.

SUPPLEMENTARY INFORMATION: In the Federal Register on February 16, 2017, (82 FR 10919-10920), within the NRC Export License Application—ADAMS Accession No., correct “ML17024A266” to read “ML17024A270.”

Dated at Rockville, Maryland, this 27th day of February 2017.
For the Nuclear Regulatory Commission.
David L. Skeen,
Deputy Director, Office of International Programs.

[FR Doc. 2017-04291 Filed 3-3-17; 8:45 am]

BILLING CODE 7590-01-P